DEPARTMENT OF DEFENSE

Department of the Army; Corps of Engineers

Intent To Prepare a Draft Supplemental Environmental Impact Statement/Environmental Impact Report for the Yuba River Basin Project, Yuba County, CA

AGENCY: Department of the Army, U.S. Army Corps of Engineers, DoD

ACTION: Notice of intent.

SUMMARY: In accordance with the National Environmental Policy Act (NEPA) and the California Environmental Quality Act (CEQA), the U.S. Army Corps of Engineers (Corps), Sacramento District, is preparing a Draft Supplemental Environmental Impact Statement/Environmental Impact Report (SEIS/EIR) to reevaluate the previously authorized plan and other alternatives to reduce flood damages and restore riparian and aquatic habitat in the lower Yuba River Basin, part of the Feather River Basin, and the city of Marysville, in Yuba County, CA. This notice replaces the one previously published in the Federal Register on March 17, 2004 (69 FR 12646). The general reevaluation is needed because recent technical, environmental, and economic studies have indicated that additional refinement and reformulation are needed to determine the feasibility and extent of Federal and non-Federal interest in the project. The basic study authority for the Yuba River Basin study was provided under the Flood Control Act of 1962.

ADDRESSES: Send written comments and suggestions concerning this study to Mr. Robert Koenigs, U.S. Army Corps of Engineers, Sacramento District, Attn: Planning Division (CESPK-PD-R), 1325 J Street, Sacramento, CA 95814. Requests to be placed on the mailing list should also be sent to this address.

FOR FURTHER INFORMATION CONTACT: Mr. Robert Koenigs, E-mail at Robert.L.Roenigs@usace.army.mil, telephone (916) 557-6712, or fax (916) 557-7856.

SUPPLEMENTARY INFORMATION:

1. Public Involvement

The Yuba River Basin project will be coordinated between Federal, State, and local governments; local stakeholders; special interest groups, and any other interest individuals and organizations. The Corps will announce availability of the draft supplemental document in the Federal Register and other media, and will provide the public, organizations, and agencies with an opportunity to submit comments, which will be addressed in the Final SEIS/EIR. A 45-day public review period will be provided for individuals and agencies to review and comment on the SEIS/EIR. All interested parties should respond to this notice and provide a current address if they wish to be notified SEIS/EIR circulation.

2. Project Information

The Yuba River Basin is located in western Yuba County about 50 miles north of Sacramento. The authorized project focused on approximately 21 miles of levees along the Yuba and Feather Rivers in the variety of Marysville, CA. The Yuba River Basin study area was divided into three reaches: Reach 1—Yuba River/Feather River; reach 2—Feather River (including Bear River and WP Interceptor Canal area); and reach 3—Marysville ring levee.

The Feasibility Report and Final EIS/EIR were completed in April 1998. Congress authorized the project in the Water Resources Development Act of 1999, and the Record of Decision was signed in June 2000. The authorized project included specific levee modifications on 6.1 miles of the left bank of the Yuba River upstream of the confluence with the Feather River; 10 miles of levee on the left bank of the Feather River downstream of the confluence of the Yuba River; and 5 miles of the Marysville ring levee. The levee modification work as authorized was intended to bring the level of flood protection for these levees up to about a 200-year level of protection.

Since the final Yuba River Basin project was authorized, geotechnical investigations and updated hydrology have identified previously unknown levee foundation problems in portions of the study area/authorized project. Levees along the Bear River and the WP Interceptor Canal have also been shown to have stability and seepage problems that may cause flooding in lower Yuba County. Because flooding is still a significant problem for the affected communities along the Yuba, Feather, and Bear Rivers, the State of California Reclamation Board has requested that the Corps initiate a general reevaluation of the project to determine a new feasible project.

3. Proposed Action

The proposed action would be a general reevaluation of the authorized project and other alternative plans to provide the level of flood protection previously planned and to restore riparian and aquatic habitats in the project area.

4. Alternatives

Potential alternatives to reduce flood damages and restore riparian and aquatic habitat could include: (1) No Action, (2) Modified Authorized Project Features and other Levee Improvements, and (3) Modified Authorized Project Features, other Levee Improvements, and Setback Levees. Features of the alternatives could include modifying existing levees, constructing new setback levees, creating seasonal or permanent wetland areas, and planting native riparian and wetland species.

Dated: January 6, 2006.
Ronald N. Light,
Colonel, Corps of Engineers, District Engineer.

[FR Doc. 06-483 Filed 1-18-06; 8:45 am]

BILLING CODE 3710-EZ-M